DEPARTMENT OF AGRICULTURE

Farm Service Agency

[Docket ID FSA-2022-0010]

Request for Applications for Heirs' Property Relending Program

AGENCY: Farm Service Agency, USDA.

ACTION: Notice and request for applications.

SUMMARY: The Farm Service Agency (FSA) is announcing the opportunity for interested eligible entities, including cooperatives, credit unions, and nonprofit organizations certified to operate as a lender, to apply for loans under the Heirs' Property Relending Program (HPRP). Approved entities will serve as intermediaries who will relend HPRP funds for projects that assist heirs with undivided ownership interests to resolve ownership and succession issues on farmland that has multiple owners (commonly referred to as “Heirs' property”).

DATES: The application period will open on August 30, 2022 and will continue indefinitely until a closing date is announced in a notice in the Federal Register.

FOR FURTHER INFORMATION CONTACT: Raenata Walker; telephone: (202) 720-4671; email: sm.fpac.fsa.wdc.hprp@usda.gov. Persons with disabilities or who require alternative means for communication should contact the USDA Target Center at (202) 720-2600 (voice).

SUPPLEMENTARY INFORMATION:

Background

HPRP was authorized by section 5104 of the Agricultural Improvement Act of 2018 (2018 Farm Bill, Pub. L. 115-334), codified in 7 U.S.C. 1936c. HPRP provides loans to eligible entities to relend with the purpose of assisting heirs with undivided ownership interests to resolve ownership and succession issues on farms that are owned in common by multiple heirs. HPRP loan funds may be used to purchase and consolidate fractional interests held by other heirs in jointly owned property, and to pay for costs and fees associated with developing and implementing a succession plan (for example, closing costs, appraisals, title searches, surveys, mediation, and legal services). During the initial application period announced in the HPRP final rule published in the Federal Register on August 9, 2021 (86 FR 43381-43397), FSA implemented a 60-day application period due to concerns around the availability of funds. After completing the initial controlled rollout of HPRP, FSA has expanded funding for HPRP and is announcing the reopening of the application period for eligible entities to apply for HPRP without a closing date at this time. In the event that applications are expected to exceed available funding, a closing date for applications will be announced and priority will be given to applicants in accordance with 7 U.S.C. 1936c(d). Any such closing date will be announced in the Federal Register as specified in 7 CFR part 769 subpart B. Additional information on HPRP can be found on FSA's Farmers.gov website at www.farmers.gov/working-with-us/heirs-property-eligibility/relending, and in 7 CFR part 769 subpart B.

Application and Submission Information

Eligible lenders can obtain applications and submission information at FSA's Farmers.gov website at www.farmers.gov/working-with-us/heirs-property-eligibility/relending.

Application Review Information

FSA will process and approve applications in accordance with the regulations in 7 CFR part 769 subpart B.

USDA Non-Discrimination Policy

In accordance with Federal civil rights law and U.S. Department of Agriculture (USDA) civil rights regulations and policies, USDA, its Agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Persons with disabilities who require alternative means of communication for program information (for example, braille, large print, audiotape, American Sign Language, etc.) should contact the responsible Agency or USDA Target Center at (202) 720-2600 or 844-433-2774 (toll-free nationwide). Additionally, program information may be made available in languages other than English.

To file a program discrimination complaint, complete the USDA Program Discrimination Complaint Form, AD-3027, found online at https://www.ascr.usda.gov/filing-program-discrimination-complaint-used-customer, and at any USDA office or write a letter addressed to USDA and provide in the letter all the information requested in the form. To request a copy of the complaint form, you may call (866) 632-9992. You may submit your completed form or letter to any of the following options:

• Mail: U.S. Department of Agriculture, Office of the Assistant Secretary for Civil Rights, 1400 Independence Avenue SW, Washington, DC 20250-9410;

• Fax: (202) 690-7442; or

• Email: program.intake@usda.gov.

USDA is an equal opportunity provider, employer, and lender.

Zach Ducheneaux,
Administrator, Farm Service Agency.

[FR Doc. 2022-18608 Filed 8-29-22; 8:45 am]

BILLING CODE 3411-E2-P